DEPARTMENT OF COMMERCE

National Oceanic and Atmospheric Administration

[RTID 0648-XB487]

Endangered and Threatened Species; Announcement of Workshop To Inform Recovery Planning for ESA Listed Rice's Whale (Balaenoptera Ricei)

AGENCY: National Marine Fisheries Service (NMFS), National Oceanic and Atmospheric Administration (NOAA), Commerce.

ACTION: Notice.

SUMMARY: We, NMFS, are convening a workshop to solicit information from experts to inform recovery planning for Rice's whale (Balaenoptera ricei) under section 4(f) of the Endangered Species Act (ESA). This workshop will be open to the public.

DATES: Workshop dates and information: We will hold the recovery planning workshop for the Rice's whale virtually over the course of 5 sessions in October and November 2021.

• Monday, October 18, 11 a.m.-4 p.m. Eastern Daylight Savings Time (EDT)

• Monday, November 1, 12 p.m.-4 p.m. EDT

• Wednesday, November 10, 12 p.m.-4 p.m. Eastern Standard Time (EST)

• Tuesday, November 16, 12 p.m.-4 p.m. EST

• Thursday, November 18, 12 p.m.-4 p.m. EST

ADDRESSES: If you plan to attend the workshop as an interested member of the public, please register for each session that you would like to observe:

• Session 1: ttps://bit.ly/RIWH-Wkshp1-Oct18-RSVP

• Session 2: https://bit.ly/RIWH-Wkshp2-Nov1-RSVP

• Session 3: https://bit.ly/RIWH-Wkshp3-Nov10-RSVP

• Session 4: https://bit.ly/RIWH-Wkshp4-Nov16-RSVP

• Session 5: https://bit.ly/RIWH-Wkshp5-Nov18-RSVP

FOR FURTHER INFORMATION CONTACT: Barb Zoodsma, (727) 824-5312, NMFS Southeast Regional Office (SERO), Protected Resources Division, Barb.Zoodsma@noaa.gov.

SUPPLEMENTARY INFORMATION:

Background

On April 15, 2019, we published a final rule listing the Gulf of Mexico Bryde's whale (Balaenoptera edeni; a subspecies of Bryde's whales) as endangered under the Endangered Species Act (ESA) (84 FR 15446). In 2021, a published study in a peer-reviewed journal (Rosel et al., 2021) provided evidence for and described the individuals referred to as the Gulf of Mexico Bryde's whales as an entirely new species (not just subspecies) of baleen whale. The new species is described as the Rice's whale (Balaenoptera ricei). Consequently, on August 23, 2021, we published a direct final rule to update the taxonomic classification, description, and common name of species included in the list of endangered species maintained at 50 CFR 224.101 to reflect the updated science (86 FR 47022). The direct final rule changes the common name of the listed entity from Bryde's whale (Gulf of Mexico subspecies) to Rice's whale, the scientific name from B. edeni (unnamed subspecies) to B. ricei, and the description of the listed entity from Bryde's whales that breed and feed in the Gulf of Mexico to the entire species. The direct final rule and these changes will be effective on October 22, 2021. The direct final rule ensures that the list of endangered species reflects the best available scientific information. Although the changes to the enumeration of listed species are not yet effective, we are referring to the species using the updated scientific understanding. Therefore, this rule will refer to the individuals as Rice's whale or B. ricei, as appropriate. The species' status and legal protections under the ESA remain the same despite the forthcoming changes.

The final listing rule (84 FR 15446; April 15, 2019) describes the background of the listing action for this species and provides a summary of our conclusions regarding its status. For additional background and information about this species, the reader is referred to the status review report, final listing rule, and our species web pages (available at https://www.fisheries.noaa.gov/species/rices-whale).

NMFS is required by section 4(f) of the ESA to develop and implement recovery plans for the conservation and survival of federally-listed species unless the Secretary finds that such a plan will not promote the conservation of the species. Recovery means that the status of a listed species has improved to the point at which the protections of the ESA are no longer necessary. The ESA specifies that recovery plans are to include (1) a description of site-specific management actions necessary to achieve the plan's goal for the conservation and survival of the species; (2) objective, measurable criteria which, when met, would result in the species being removed from the list; and (3) estimates of the time and costs required to carry out the actions needed to achieve the plan's conservation and survival goal and to achieve intermediate steps toward that goal. Under section 4(f) of the ESA, public notice and an opportunity for public review and comment also are provided during recovery plan development.

This notice serves as a public notice and opportunity for public attendance in the recovery workshop. Once a recovery plan has been drafted, it will be announced in the Federal Register and available on our website for public review and comment before being finalized.

Recovery Planning Workshop Announcement

NMFS will hold a virtual workshop in five sessions to help inform our recovery planning for Rice's whale. The first session will be held on Monday, October 18, 2021, and the last session will be held Thursday, November 18, 2021 (see DATES section). We invited experts and stakeholders in specific topic areas, including the species' biology and ecology, threats to the species and the species' habitat, the recovery planning process itself, and cetacean conservation and management. These experts and stakeholders will help us identify potential actions to address the threats to the species, identify gaps in knowledge and associated research needs, as well as begin developing recovery criteria for the species. Identified experts and stakeholders include representatives of Federal and State agencies, scientific experts, individuals from industry, and individuals from conservation partners and nongovernmental organizations.

NMFS has contracted a facilitator to manage the workshop as well as note takers to document input received. We are seeking information; we will not be asking for consensus recommendations on how to recover the Rice's whale species. A summary of the workshop will be prepared, noting the main points raised by the participants.

This workshop will be open to the public, and a public comment period will be provided at the end of each session. If you plan to attend the workshop as an interested member of the public, please register via the website addresses listed in the ADDRESSES section, so we can ensure sufficient online connectivity for participants and interested parties during our logistics planning.

Schedule of Workshops

• Session 1: Workshop Series Kick-Off—October 18—Session 1 will focus on general background and orientation to Rice's whale recovery process

• Session 2: Entanglement, Prey, and Climate Change—November 1—Session 2 will focus on entanglement, prey, and climate change

• Session 3: Marine Debris and Environmental Pollutants—November 10—Session 3 will focus on marine debris and environmental pollutants (oil spills, contaminants and disease)

• Session 4: Anthropogenic Noise and Acoustic Habitat, Vessel Strikes, Marine Structures—November 16—Session 4 will focus on anthropogenic noise and acoustic habitat, vessel strikes, and marine structures (offshore renewable energy, sediment diversion and aquaculture)

• Session 5: Recovery Criteria Discussion—November 18—Session 5 will focus on bringing workshop takeaways together and deeper dive into recovery criteria

Workshops are accessible to persons with disabilities. Send requests for auxiliary aids at least five business days in advance of the start date of the session to Barb Zoodsma at Barb.Zoodsma@noaa.gov.

Authority: 16 U.S.C. 1531 et seq.

Dated: September 30, 2021.
Kimberly Damon-Randall,
Director, Office of Protected Resources, National Marine Fisheries Service.

[FR Doc. 2021-21661 Filed 10-4-21; 8:45 am]

BILLING CODE 3510-22-P